DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 27, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Waivers and State Plans (WiSP).

OMB Control Number: 0584-NEW.

Summary of Collection: This is a new information collection for the Waivers and State Plans (WiSP) application. WiSP will allow State agencies to request Program waivers and submit State Plans to the U.S. Department of Agriculture (USDA) Food and Nutrition Service (FNS), FNS staff to manage data provided within the application, and covers the gathering and maintenance of all supporting data from each State agency. The Waivers and State Plans (WiSP) application will support the following USDA programs and be available to all participating State agencies in each program: Special Supplemental Nutrition Program for Woman, Infants, and Children (WIC); Farmers Market Nutrition Program (FMNP); and Seniors Farmers Market Nutrition Program (SFMNP).

The purpose of (1) WIC is to provide supplemental foods, nutrition education, and health care referrals to low income, nutritionally at-risk pregnant, breastfeeding and postpartum women, infants, and children up to age five. The WIC program is authorized by the Child Nutrition Act (CNA) of 1966 (see Appendix A), as amended. WIC currently operates through a Federal/State partnership in which USDA FNS provides grants to State agencies in 50 U.S. States, 6 U.S. Territories, and 32 Indian Tribal Organizations (ITOs). The WIC program requirements are specified in Section 17 of the CNA and WIC regulations at 7 CFR part 246 (see Appendix B).

(2) FMNP is designed to provide fresh, unprepared, locally grown fruits and vegetables to WIC participants and expand awareness, use of, and sales at farmers markets. FMNP currently operates through a Federal/State partnership in which FNS provides grants to State agencies in 39 U.S. States, 3 U.S. Territories, and 8 ITOs. FMNP requirements are specified in Section 17(m)(8) of the CNA and FMNP regulations at 7 CFR part 248 (see Appendix C) and WIC Farmer's Market Nutrition Act of 1992 (see Appendix D).

(3) SFMNP is designed to provide low-income seniors with access to locally grown fruits, vegetables, honey, and herbs and support the development of new and additional farmers markets, roadside stands, and community supported agricultural programs. SFMNP currently operates through a Federal/State partnership in which FNS provides grants in 45 U.S. States, 3 U.S. Territories, and 8 ITOs. SFMNP requirements are specified in the Farm Security and Rural Investment Act of 2002, as amended, (see Appendix E) and SFMNP regulations at 7 CFR part 249 (see Appendix F).

Need and Use of the Information: State agencies are required to submit State plans annually per the guidelines of the respective programs, as an application or prerequisite to the receipt of federal funds from FNS.

Each program has one or more designated checklists that cover different program requirements. FMNP and SFMNP optionally allow for some programs to be combined into a single, consolidated State plan checklist. The new application will support each program's individual checklists, and allowable, consolidated checklists.

Description of Respondents: State, Local, or Tribal Government.

Number of Respondents: 194.

Frequency of Responses: Reporting: As Needed.

Total Burden Hours: 18,844.

Rachelle Ragland-Greene,
Departmental Information Collection Clearance Officer.

[FR Doc. 2025-18591 Filed 9-24-25; 8:45 am]

BILLING CODE 3410-30-P